COMMISSION ON CIVIL RIGHTS

Notice of Public Meeting of the Guam Advisory Committee to the U.S. Commission on Civil Rights

AGENCY: U.S. Commission on Civil Rights.

ACTION: Announcement of public meeting.

SUMMARY: Notice is hereby given, pursuant to the provisions of the rules and regulations of the U.S. Commission on Civil Rights (Commission) and the Federal Advisory Committee Act, that the Guam Advisory Committee (Committee) to the U.S. Commission on Civil Rights will hold a virtual, public meeting via Zoom. The purpose of this meeting is to discuss the Committee's final report on the topic, Overrepresentation of FAS Members in the Criminal Justice System on Guam.

DATES: Wednesday, February 25, 2026, from 9:00 a.m.-10:00 a.m. ChST (Tuesday, February 24, 2026, from 6:00 p.m.-7:00 p.m. ET).

ADDRESSES: The meetings will be held via Zoom Webinar.

Registration Link (Audio/Visual): https://www.zoomgov.com/webinar/register/WN_NRhNtliKTt2-maKJfjSt7Q.

Join by Phone (Audio Only): (833) 435-1820 USA Toll Free; Meeting ID: 161 345 6745.

Agenda: https://usccr.box.com/s/kcw8gd9pxob2khvremjms544oalrn906. (Note: final meeting agendas will be available prior to each meeting date.)

FOR FURTHER INFORMATION CONTACT: Kayla Fajota, DFO, at kfajota@usccr.gov or (434) 515-2395.

SUPPLEMENTARY INFORMATION: This committee meeting is available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any charges incurred. Callers will incur no charge for calls when they initiate over land-line connections to the toll-free telephone number. Closed captioning will be available for individuals who are deaf, hard of hearing, or who have certain cognitive or learning impairments. To request additional accommodations, please email Angelica Trevino, Support Specialist, at atrevino@usccr.gov at least 10 business days prior to the meeting.

Members of the public are entitled to submit written comments; the comments must be received within 30 days following the meeting. Written comments may be emailed to Kayla Fajota at kfajota@usccr.gov. Persons who desire additional information may contact the Regional Programs Coordination Unit at (434) 515-2395.

Records generated from this meeting may be inspected and reproduced at the Regional Programs Coordination Unit, as they become available, both before and after the meeting. Records of the meeting will be available via the file sharing website: www.box.com, as well as at: www.facadatabase.gov (under the Commission on Civil Rights and selecting the Advisory Committee of interest). Persons interested in the work of this Committee are directed to the Commission's website, www.usccr.gov, or may contact the Regional Programs Coordination Unit at the above phone number.

Dated: February 18, 2026.
David Mussatt,
Supervisory Chief, Regional Programs Unit.

[FR Doc. 2026-03414 Filed 2-19-26; 8:45 am]

BILLING CODE P